OFFICE OF MANAGEMENT AND BUDGET

Office of Federal Procurement Policy

DEPARTMENT OF DEFENSE

GENERAL SERVICES ADMINISTRATION

NATIONAL AERONAUTICS AND SPACE ADMINISTRATION

48 CFR Parts 32, 43, and 52

[FAC 2025-05; Item II; Docket No. FAR-2025-0052; Sequence No. 2]

Federal Acquisition Regulation; Technical Amendments

AGENCY: Office of Federal Procurement Policy (OFPP), Office of Management and Budget; Department of Defense (DoD); General Services Administration (GSA); and National Aeronautics and Space Administration (NASA).

ACTION: Final rule.

SUMMARY: This document amends the Federal Acquisition Regulation (FAR) to make needed editorial changes.

DATES: Effective August 7, 2025.

FOR FURTHER INFORMATION CONTACT: For clarification of content, contact FAR Policy at 202-969-4075 or by email at FARPolicy@gsa.gov. For information pertaining to status or publication schedules, contact the Regulatory Secretariat Division at 202-501-4755 or GSARegSec@gsa.gov. Please cite FAC 2025-05, Technical Amendments.

SUPPLEMENTARY INFORMATION: This document makes editorial changes to 48 CFR parts 32, 43, and 52.

List of Subjects in 48 CFR Parts 32, 43, and 52

Government procurement.

William F. Clark,
Director, Office of Government-wide Acquisition Policy, Office of Acquisition Policy, Office of Government-wide Policy.

Therefore, OFPP, DoD, GSA, and NASA amend 48 CFR parts 32, 43, and 52 as set forth below:

PART 32—CONTRACT FINANCING

1. The authority citation for 48 CFR part 32 is revised to read as follows:

Authority: 41 U.S.C. 1121(b); 40 U.S.C. 121(c); 10 U.S.C. chapter 4 and 10 U.S.C. chapter 137 legacy provisions (see 10 U.S.C. 3016); and 51 U.S.C. 20113.

32.907 [Amended]

2. Amend section 32.907 in paragraph (e) by removing the last sentence.

PART 43—CONTRACT MODIFICATIONS

3. The authority citation for 48 CFR part 43 is revised to read as follows:

Authority: 41 U.S.C. 1121(b); 40 U.S.C. 121(c); 10 U.S.C. chapter 4 and 10 U.S.C. chapter 137 legacy provisions (see 10 U.S.C. 3016); and 51 U.S.C. 20113.

4. Revise section 43.101 to read as follows:

43.101 Definitions.

As used in this part—

Administrative change means a unilateral (see 43.103(b)) contract change, in writing, that does not affect the substantive rights of the parties (e.g., a change in the paying office or the appropriation data).

Effective date means—

(1) For a solicitation amendment, change order, or administrative change, the effective date shall be the issue date of the amendment, change order, or administrative change.

(2) For a supplemental agreement, the effective date shall be the date agreed upon by the contracting parties.

(3) For a modification issued as a confirming notice of termination for the convenience of the Government, the effective date of the confirming notice shall be the same as the effective date of the initial notice.

(4) For a modification converting a termination for default to a termination for the convenience of the Government, the effective date shall be the same as the effective date of the termination for default.

(5) For a modification confirming the termination contracting officer's previous letter determination of the amount due in settlement of a contract termination for convenience, the effective date shall be the same as the effective date of the previous letter determination.

PART 52—SOLICITATION PROVISIONS AND CONTRACT CLAUSES

5. The authority citation for 48 CFR part 52 continues to read as follows:

Authority: 41 U.S.C. 1121(b); 40 U.S.C. 121(c); 10 U.S.C. chapter 4 and 10 U.S.C. chapter 137 legacy provisions (see 10 U.S.C. 3016); and 51 U.S.C. 20113.

6. Amend section 52.247-60 by—

a. Revising the date of the clause and paragraphs (a)(1)(x) and (xi); and

b. Removing the sentence following paragraph (b).

The revisions read as follows:

52.247-60 Guaranteed Shipping Characteristics.

* * * * *

Guaranteed Shipping Characteristics (AUG 2025)

(a) * * *

(1) * * *

(x) Number of containers or pallets/skids per railcar___*

(A) Size of railcar___

(B) Type of railcar___

(xi) Number of containers or pallets/skids per trailer___*

(A) Size of trailer___ Ft

(B) Type of trailer

* Number of complete units (line item) to be shipped in carrier's equipment.

* * * * *

[FR Doc. 2025-14991 Filed 8-6-25; 8:45 am]

BILLING CODE 6820-EP-P